DEPARTMENT OF AGRICULTURE

Office of the Secretary

7 CFR Part 6

Adjustment of Appendices to the Dairy Tariff-Rate Import Quota Licensing Regulation for the 2002 Tariff-Rate Quota Year

AGENCY: Office of the Secretary, USDA.

ACTION: Final rule.

SUMMARY: This document sets forth the revised appendices to the Dairy Tariff-Rate Import Quota Licensing Regulation for the 2002 quota year reflecting the cumulative annual transfers from Appendix 1 to Appendix 2 for certain dairy product import licenses permanently surrendered by licensees or revoked by the Licensing Authority.

EFFECTIVE DATE: April 29, 2002.

FOR FURTHER INFORMATION CONTACT: Michael I. Hankin, Dairy Import Quota Manager, Import Policies and Programs Division, STOP 1021, U.S. Department of Agriculture, 1400 Independence Avenue, SW., Washington, DC 20250-1021 or telephone at (202) 720-9439.

SUPPLEMENTARY INFORMATION: The Foreign Agricultural Service, under a delegation of authority from the Secretary of Agriculture, administers the Dairy Tariff-Rate Import Quota Licensing Regulation codified at 7 CFR 6.20-6.37 that provides for the issuance of licenses to import certain dairy articles under tariff-rate quotas (TRQs) as set forth in the Harmonized Tariff Schedule of the United States. These dairy articles may only be entered into the United States at the low-tier tariff by or for the account of a person or firm to whom such licenses have been issued and only in accordance with the terms and conditions of the regulation.

Licenses are issued on a calendar year basis, and each license authorizes the license holder to import a specified quantity and type of dairy article from a specified country of origin. The Import Policies and Programs Division, Foreign Agricultural Service, U.S. Department of Agriculture, issues these licenses and, in conjunction with the U.S. Customs Service, monitors their use.

The regulation at 7 CFR 6.34(a) states: “Whenever a historical license (Appendix 1) is not issued to an applicant pursuant to the provisions of § 6.23, is permanently surrendered, or is revoked by the Licensing Authority, the amount of such license will be transferred to Appendix 2.” Section 6.34(b) provides that the cumulative annual transfers will be published in the Federal Register. Accordingly, this document sets forth the revised Appendices for the 2002 tariff-rate quota year.

List of Subjects in 7 CFR Part 6

Agricultural commodities, Cheese, Dairy Products, Imports, Reporting and record keeping requirements.

Issued at Washington, DC.
Michael I. Hankin,
Licensing Authority.

Accordingly, 7 CFR Part 6 is amended as follows:

PART 6—IMPORT QUOTAS AND FEES

1. The authority citation for Part 6, Subpart—Dairy Tariff-Rate Import Quota Licensing continues to read as follows:

Authority: Additional U.S. Notes 6, 7, 8, 12, 14, 16-23 and 25 to Chapter 4 and General Note 15 of the Harmonized Tariff Schedule of the United States (19 U.S.C. 1202), Pub. L. 97-258, 96 Stat. 1051, as amended (31 U.S.C. 9701), and secs. 103 and 404, Pub. L. 103-465, 108 Stat. 4819 (19 U.S.C. 3513 and 3601).

2. Appendices 1, 2 and 3 to Subpart—Dairy Tariff-Rate Import Quota Licensing are revised to read as follows:

Appendices 1, 2 and 3 to Subpart—Dairy Tariff-Rate Import Quota Licensing
[Articles Subject to: Appendix 1, Historical Licenses; Appendix 2, Nonhistorical Licenses; and Appendix 3, Designated Importer Licenses for Quota Year 2002 (quantities in kilograms)]
Article by additional U.S. note number and country of origin | Appendix 1 | Appendix 2 | Appendix 3: Tokyo Round | Appendix 3: Uruguay Round
NON-CHEESE ARTICLES
BUTTER (NOTE 6) | 5,591,819 | 1,385,181 |  |
EU-15 | 80,694 | 15,467 |  |
New Zealand | 124,709 | 25,884 |  |
Other Countries | 63,105 | 10,830 |  |
Any Country | 5,323,311 | 1,333,000 |  |
DRIED SKIM MILK (NOTE 7) | 600,076 | 4,660,924 |  |
Australia | 600,076 |  |  |
Canada |  | 219,565 |  |
Any Country |  | 4,441,359 |  |
DRIED WHOLE MILK (NOTE 8) | 3,175 | 3,318,125 |  |
New Zealand | 3,175 |  |  |
Any Country |  | 3,318,125 |  |
DRIED BUTTERMILK/WHEY (NOTE 12) | 224,981 |  |  |
Canada | 161,161 |  |  |
New Zealand | 63,820 |  |  |
BUTTER SUBSTITUTES CONTAINING OVER 45 PERCENT OF BUTTERFAT AND/OR BUTTER OIL (NOTE 14) |  | 6,080,500 |  |
Any Country |  | 6,080,500 |  |
TOTAL: NON-CHEESE ARTICLES | 6,420,051 | 15,444,730 |  |
CHEESE ARTICLES
CHEESE AND SUBSTITUTES FOR CHEESE (EXCEPT: SOFT RIPENED COW'S MILK CHEESE; CHEESE NOT CONTAINING COW'S MILK; CHEESE (EXCEPT COTTAGE CHEESE) CONTAINING 0.5 PERCENT OR LESS BY WEIGHT OF BUTTERFAT; AND, ARTICLES WITHIN THE SCOPE OF OTHER IMPORT QUOTAS PROVIDED FOR IN THIS SUBCHAPTER) (NOTE 16) | 23,759,623 | 7,711,108 | 9,661,128 | 7,496,000
Argentina | 7,690 |  | 92,310 |
Australia | 535,628 | 5,542 | 758,830 | 1,750,000
Canada | 1,031,946 | 109,054 |  |
Costa Rica |  |  |  | 1,550,000
Czech Republic |  |  |  | 200,000
EU-15 | 15,578,947 | 6,753,485 | 1,132,568 | 2,346,000
Of which Portugal is | 127,536 | 1,773 | 223,691 |
Israel | 79,696 |  | 593,304 |
Iceland | 294,000 |  | 29,000 |
New Zealand | 4,479,868 | 335,604 | 6,506,528 |
Norway | 124,982 | 25,018 |  |
Poland | 917,497 | 18,727 |  | 300,000
Slovak Republic |  |  |  | 600,000
Switzerland | 597,513 | 73,899 | 548,588 | 500,000
Uruguay |  |  |  | 250,000
Other Countries | 111,856 | 89,779 |  |
Any Country |  | 300,000 |  |
BLUE-MOLD CHEESE (EXCEPT STILTON PRODUCED IN THE UNITED KINGDOM) AND CHEESE AND SUBSTITUTES FOR CHEESE CONTAINING, OR PROCESSED FROM, BLUE-MOLD CHEESE (NOTE 17) | 2,321,554 | 159,447 |  | 430,000
Argentina | 2,000 |  |  |
EU-15 | 2,319,553 | 159,447 |  | 300,000
Chile |  |  |  | 80,000
Czech Republic |  |  |  | 50,000
Other Countries | 1 |  |  |
CHEDDAR CHEESE, AND CHEESE AND SUBSTITUTES FOR CHEESE CONTAINING, OR PROCESSED FROM, CHEDDAR CHEESE (NOTE 18) | 3,664,363 | 619,493 | 519,033 | 7,620,000
Australia | 937,721 | 46,778 | 215,501 | 1,250,000
Chile |  |  |  | 220,000
Czech Republic |  |  |  | 50,000
EU-15 | 57,168 | 205,832 |  | 1,000,000
New Zealand | 2,543,600 | 252,868 | 303,532 | 5,100,000
Other Countries | 125,874 | 14,015 |  |
Any Country |  | 100,000 |  |
AMERICAN-TYPE CHEESE, INCLUDING COLBY, WASHED CURD AND GRANULAR CHEESE (BUT NOT INCLUDING CHEDDAR) AND CHEESE AND SUBSTITUTES FOR CHEESE CONTAINING OR PROCESSED FROM SUCH AMERICAN-TYPE CHEESE (NOTE 19) | 2,856,128 | 309,425 | 357,003 |
Australia | 834,747 | 46,251 | 119,002 |
EU-15 | 186,222 | 167,778 |  |
New Zealand | 1,671,294 | 90,705 | 238,001 |
Other Countries | 163,865 | 4,691 |  |
EDAM AND GOUDA CHEESE, AND CHEESE AND SUBSTITUTES FOR CHEESE CONTAINING, OR PROCESSED FROM, EDAM AND GOUDA CHEESE (NOTE 20) | 5,294,715 | 311,687 |  | 1,210,000
Argentina | 119,003 | 5,997 |  | 110,000
Czech Republic |  |  |  | 100,000
EU-15 | 5,035,993 | 253,007 |  | 1,000,000
Norway | 114,318 | 52,682 |  |
Other Countries | 25,401 | 1 |  |
ITALIAN-TYPE CHEESES, MADE FROM COW'S MILK, (ROMANO MADE FROM COW'S MILK, REGGIANO, PARMESAN, PROVOLONE, PROVOLETTI, SBRINZ, AND GOYA-NOT IN ORIGINAL LOAVES) AND CHEESE AND SUBSTITUTES FOR CHEESE CONTAINING, OR PROCESSED FROM, SUCH ITALIAN-TYPE CHEESES, WHETHER OR NOT IN ORIGINAL LOAVES (NOTE 21) | 6,524,558 | 995,989 | 795,517 | 5,165,000
Argentina | 3,958,383 | 167,100 | 367,517 | 1,890,000
EU-15 | 2,555,775 | 826,225 |  | 700,000
Poland |  |  |  | 1,325,000
Romania |  |  |  | 500,000
Uruguay |  |  | 428,000 | 750,000
Other Countries | 10,400 | 2,664 |  |
SWISS OR EMMENTHALER CHEESE OTHER THAN WITH EYE FORMATION, GRUYERE-PROCESS CHEESE AND CHEESE AND SUBSTITUTES FOR CHEESE CONTAINING, OR PROCESSED FROM, SUCH CHEESES (NOTE 22) | 5,753,362 | 897,952 | 823,519 | 380,000
EU-15 | 4,344,660 | 807,334 | 393,006 | 380,000
Switzerland | 1,333,942 | 85,545 | 430,513 |
Other Countries | 74,760 | 5,073 |  |
CHEESE AND SUBSTITUTES FOR CHEESE, CONTAINING 0.5 PERCENT OR LESS BY WEIGHT OF BUTTERFAT (EXCEPT ARTICLES WITHIN THE SCOPE OF OTHER TARIFF-RATE QUOTAS PROVIDED FOR IN THIS SUBCHAPTER), AND MARGARINE CHEESE (NOTE 23) | 3,838,969 | 585,939 | 1,050,000 |
EU-15 | 3,675,725 | 574,275 |  |
Israel |  |  | 50,000 |
New Zealand |  |  | 1,000,000 |
Poland | 163,243 | 11,664 |  |
Other Countries | 1 |  |  |
SWISS OR EMMENTHALER CHEESE WITH EYE FORMATION (NOTE 25) | 18,247,171 | 4,050,160 | 9,557,945 | 2,620,000
Argentina |  | 9,115 | 70,885 |
Australia | 209,698 |  | 290,302 |
Canada |  |  | 70,000 |
Czech Republic |  |  |  | 400,000
Hungary |  |  |  | 800,000
EU-15 | 13,254,454 | 3,222,374 | 4,003,172 | 1,220,000
Iceland | 149,999 |  | 150,001 |
Israel | 27,000 |  |  |
Norway | 3,206,405 | 448,905 | 3,227,690 |
Switzerland | 1,314,340 | 369,765 | 1,745,895 | 200,000
Other Countries | 85,275 | 1 |  |
TOTAL: CHEESE ARTICLES | 72,260,443 | 15,641,200 | 22,764,145 | 24,921,000

[FR Doc. 02-10461 Filed 4-26-02; 8:45 am]

BILLING CODE 3410-10-P